DEPARTMENT OF HOUSING AND URBAN DEVELOPMENT

[Docket No. FR-4925-N-01]

Funding for Fiscal Year 2004: Capacity Building for Community Development and Affordable Housing

AGENCY: Office of the Assistant Secretary for Community Planning and Development, HUD.

ACTION: Notice.

Overview Information

A. Federal Agency Name. Department of Housing and Urban Development, Office of the Assistant Secretary for Community Planning and Development.

B. Funding Opportunity Title. Capacity Building for Community Development and Affordable Housing—Enterprise Foundation (Enterprise), Local Initiatives Support Corporation (LISC), Habitat for Humanity, and YouthBuild USA.

C. Announcement Type. Initial Announcement.

D. Funding Opportunity Number. FR-4925-N-01.

E. Catalog of Federal Domestic Assistance (CDFA) Number.

F. Dates. The application closing date will be no later than 100 days from the date of publication of this Notice in the Federal Register. HUD may elect to close this solicitation when applications have been received from the four named eligible applicants.

G. Eligible Applicants. Only Enterprise, LISC, Habitat for Humanity, and YouthBuild USA are eligible to receive funds.

Full Text of Announcement

I. Funding Opportunity Description

A. Program Purpose. Beginning in Fiscal Year (FY) 1994, HUD provided funding to Enterprise and LISC through the National Community Development Initiative (NCDI), as authorized by Section 4 of the HUD Demonstration Act of 1993. In accordance with authorizing statutes, HUD divided the appropriations equally between Enterprise and LISC. HUD published a notice in the Federal Register of March 30, 1994 (59 FR 14988), which set forth the requirements for receipt of these funds.

In subsequent years, pursuant to various appropriations acts, funding was made available to Enterprise, LISC, Habitat for Humanity, and YouthBuild USA. In each of these years, HUD published a notice in the Federal Register that contained requirements for the funds that were made available to LISC, Enterprise, Habitat for Humanity, and YouthBuild USA.

This notice establishes requirements for the use of the FY2004 funds. These funds may be used for new activities or, in the case of Enterprise and LISC, to continue NCDI activities that received funding under the notice dated March 30, 1994 (59 FR 14988). New grant agreements will be executed to govern the use of these funds.

B. Authority. The Consolidated Appropriations Act, 2004 (Pub.L. 108-199, approved January 23, 2004) (FY2004 Appropriations Resolution); and Section 4 of the HUD Demonstration Act of 1993 (42 U.S.C. 9816 note).

II. Award Information

A. Available Funds. The Consolidated Appropriations Act, 2004 (Pub. L. 108-199 approved January 23, 2004) appropriates $36,750,000 for capacity building for community development and affordable housing as authorized by Section 4 of the HUD Demonstration Act of 1993. These funds are subject to an across-the-board rescission of 0.59 percent. Therefore, a total of $36,533,175 is available to be allocated from this appropriation.

B. Match. As required by Section 4 of the HUD Demonstration Act of 1993, the appropriation is subject to each award dollar being matched by $3 in cash or in-kind contributions to be obtained from private sources. Each of the organizations receiving these funds will document its proportionate share of matching resources, including resources committed directly or by a third party to a grantee or subgrantee after January 23, 2004, to conduct activities. In-kind contributions shall conform to the requirements of 24 CFR 84.23.

C. Anticipated Awards. HUD will provide this assistance through Enterprise, LISC, Habitat for Humanity, and YouthBuild USA “to develop the capacity and ability of community development corporations and community housing development organizations to undertake community development and affordable housing projects and programs.”

Of the FY2004 funds appropriated for Section 4 activities, $29,823,000 is made available in equal shares to Enterprise and LISC for activities authorized by Section 4, as in effect immediately before June 12, 1997. The funds are to be used for capacity building for community development and affordable housing, provided that approximately $5 million of the funding is used in rural areas, including tribal areas. In addition, $4,721,975 is appropriated to Habitat for Humanity and $1,988,200 to YouthBuild USA for Section 4 activities. Each organization will match the HUD assistance with resources from private sources in an amount equal to three times its share, as required by Section 4. Enterprise and LISC each will use at least $2.485 million of their $14,911,500 share for activities in rural areas, including tribal areas. Therefore, a total of $36,533,175 is available to be allocated, with Enterprise and LISC each receiving $14,911,500, Habitat for Humanity receiving $4,721,975, and YouthBuild USA receiving $1,988,200.

D. Award Instrument. HUD will use a grant agreement.

III. Eligibility Information

A. Eligible Applicants. The eligible applicants are Enterprise, LISC, Habitat for Humanity, and YouthBuild USA.

B. Cost Sharing or Matching. Applicants are required to match each award dollar with $3 in cash or in-kind contributions obtained from private sources.

C. Other

1. Eligible Activities. Eligible activities under this award include:

a. Training, education, support, and advice to enhance the technical and administrative capabilities of community development corporations (CDCs) and community housing development organizations (CHDOs), including the capacity to participate in consolidated planning as well as in fair housing planning, continuum of care homeless assistance efforts, and HUD's Colonias initiative that help ensure community-wide participation in assessing area needs; consulting broadly within the community; cooperatively planning for the use of available resources in a comprehensive and holistic manner; and assisting in evaluating performance under these community efforts and in linking plans with neighboring communities in order to foster regional planning;

b. Loans, grants, development assistance, predevelopment assistance, and other financial assistance to CDCs/CHDOs to carry out community development and affordable housing activities that benefit low-income families and persons, including the acquisition, construction, or rehabilitation of housing for low-income families and persons, and community and economic development activities that create jobs for low-income persons; and

c. Such other activities as may be determined by Enterprise, LISC, Habitat for Humanity, or YouthBuild USA in consultation with the Secretary or the Secretary's designee.

2. Threshold Requirements.

a. DUNS Requirement. The federal government requires that all applicants for federal grants and cooperative agreements with the exception of individuals, other than sole proprietors, have a valid Data Universal Numbering System (DUNS) number administered by Dun and Bradstreet. Applicants that fail to provide a DUNS number cannot receive funding from HUD. This policy is pursuant to the Office of Management and Budget (OMB) policy issued in the Federal Register on June 27, 2003 (68 FR 38402). HUD's regulation implementing the DUNS Number requirement for its programs was issued in the Federal Register on March 26, 2004 (69 FR 15671). A copy of the OMB Federal Register notice and HUD's regulation implementing the DUNS number can be found on HUD's Web site at http://www.hud.gov/offices/adm/grants/duns.cfm.

b. Compliance with Fair Housing and Civil Rights Laws. (1) Applicants must comply with all applicable fair housing and civil rights requirements in 24 CFR 5.105(a).

(2) If you, the applicant:

(a) Have been charged with an ongoing systemic violation of the Fair Housing Act; or

(b) Are a defendant in a Fair Housing Act lawsuit filed by the Department of Justice alleging an ongoing pattern or practice of discrimination; or

(c) Have received a letter of findings identifying ongoing systemic noncompliance under Title VI of the Civil Rights Act of 1964, Section 504 of the Rehabilitation Act of 1973, or Section 109 of the Housing and Community Development Act of 1974; and

(d) The charge, lawsuit, or letter of findings referenced in subpart (a), (b), or (c) above has not been resolved to HUD's satisfaction before the application deadline, then you are ineligible and HUD will not rate and rank your application. HUD will determine if actions to resolve the charge, lawsuit or letter of findings taken prior to the application deadline are sufficient to resolve the matter.

Examples of actions that would normally be considered sufficient to resolve the matter include, but are not limited to:

(i) A voluntary compliance agreement signed by all parties in response to a letter of findings;

(ii) A HUD-approved conciliation agreement signed by all parties;

(iii) A consent order or consent decree; or

(iv) An issuance of a judicial ruling or a HUD Administrative Law Judge's decision.

c. Ineligible Applicants. HUD will not consider an application from an ineligible applicant.

d. Conducting Business in Accordance With Core Values and Ethical Standards. Entities subject to 24 CFR parts 84 and 85 (most nonprofit organizations and state, local, and tribal governments or government agencies or instrumentalities, that receive federal awards of financial assistance) are required to develop and maintain a written code of conduct (see 24 CFR 84.42 and 85.36(b)(3)). Consistent with regulations governing specific programs, your code of conduct must prohibit real and apparent conflicts of interest that may arise among officers, employees, or agents; prohibit the solicitation and acceptance of gifts or gratuities by your officers, employees, and agents for their personal benefit in excess of minimal value; and outline administrative and disciplinary actions available to remedy violations of such standards. If awarded assistance under this notice, you will be required, prior to entering into an agreement with HUD, to submit a copy of your code of conduct and describe the methods you will use to ensure that all officers, employees, and agents of your organization are aware of your code of conduct. Failure to meet the requirement for a code of conduct will prohibit you from receiving an award of funds from HUD.

e. Delinquent Federal Debts. Consistent with the purpose and intent of 31 U.S.C. 3720B and 28 U.S.C. 3201(e), no award of federal funds will be made to an applicant that has an outstanding delinquent Federal debt unless (1) the delinquent account is paid in full, (2) a negotiated repayment schedule is established and the repayment schedule is not delinquent, or (3) other arrangements satisfactory to HUD are made prior to the deadline submission date.

f. Pre-Award Accounting System Surveys. HUD may arrange for a pre-award survey of the applicant's financial management system in cases where the applicant or a subrecipient has no prior federal support, HUD's program officials have reason to question whether the applicant's or subrecipient's financial management system meets federal financial management standards, or the applicant or its subrecipient is considered a high risk based upon past performance or financial management findings. HUD will not disburse funds to any applicant or subrecipient that does not have a financial management system that meets federal standards.

g. Name Check Review. Applicants are subject to a name check review process. Name checks are intended to reveal matters that significantly reflect on the applicant's management and financial integrity, or if any key individual has been convicted or is presently facing criminal charges. If the name check reveals significant adverse findings that reflect on the business integrity or responsibility of the applicant or a key individual, HUD reserves the right to (1) deny funding or consider suspension or termination of an award immediately for cause, (2) require the removal of any key individual from association with management or implementation of the award, and (3) make appropriate provisions or revisions with respect to the method of payment or financial reporting requirements.

h. False Statements. A false statement in an application is grounds for denial or termination of an award and grounds for possible punishment as provided in 18 U.S.C. 1001.

i. Debarment and Suspension. In accordance with 24 CFR part 24, no award of federal funds may be made to applicants that are presently debarred or suspended, or proposed to be debarred or suspended, from doing business with the federal government. This requirement applies to all lower tier covered transactions and to all solicitations for lower tier covered transactions. The prohibition includes the following:

(1) Having principals who, within the previous three years, have been convicted of or had a civil judgment rendered against them for commission of fraud or a criminal offense in connection with obtaining, attempting to obtain, or performing a public (Federal, State or local) transaction; violation of a Federal or state anti-trust statute; or commission of embezzlement, theft, forgery, bribery, falsification or destruction of records, making false statements, or receiving stolen property; and

(2) Charges or indictments by a governmental entity (federal, state and local) for commission of any of the above violations.

3. Program Requirements.

a. Environmental Review. Activities under this notice are subject to environmental review in accordance with 24 CFR part 50. Individual projects to be funded by these grants may not be known at the time the overall grants are awarded and also may not be known when some of the individual subgrants are made. Therefore, in accordance with 24 CFR 50.3(h), by submitting the signed application the applicant is certifying that, if awarded funding, it will:

(1) Supply HUD with all available, relevant information necessary for HUD to perform for each property any environmental review required by this part;

(2) Carry out mitigating measures required by HUD or select alternate eligible property; and

(3) Not acquire, rehabilitate, convert, lease, repair, or construct property, or commit or expend HUD or local funds for these program activities with respect to any eligible property, until HUD approval of the property is received.

b. Section 3 Requirements. If awarded funds under this program, the grantee will comply with Section 3 of the Housing and Urban Development Act of 1968 (12 U.S.C. 1701u) and HUD's implementing regulations at 24 CFR part 135. Section 3 requires that to the greatest extent feasible, opportunities for training and employment be given to low-income persons residing within the unit of general local government in which the project is located.

c. Executive Order 13166, Improving Access to Services for Persons With Limited English Proficiency. Executive Order 13166 established requirements for improving access to information and materials for persons with limited English proficiency (LEP). Applicants obtaining an award from HUD must seek to provide access to program services, benefits and information to individuals with LEP through translation and interpretive services in accordance with LEP Guidance published on December 19, 2003 (68 FR 70967). For assistance and information regarding your LEP obligation, go to www.LEP.gov.

d. Nondiscrimination Requirements. Each organization receiving a grant under this notice and its subgrantees also must comply with the Americans with Disabilities Act of 1990 (42 U.S.C. 1201 et seq.) and Title IX of the Education Amendments Act of 1972 (20 U.S.C. 1681 et seq.).

e. Affirmatively Furthering Fair Housing. Each organization receiving a grant under this notice and its subgrantees has a duty to affirmatively further fair housing. Each organization and subgrantee should include in its application or work plan the specific steps that it will take to remedy discrimination in housing and to promote fair housing rights and fair housing choice. If you are a successful applicant, you will have a duty to affirmatively further fair housing opportunities for classes protected under the Fair Housing Act. Protected classes include race, color, national origin, religion, sex, disability, and familial status.

f. Executive Order 13202, Preservation of Open Competition and Government Neutrality Towards Government Contractors' Labor Relations on Federal and Federally Funded Construction Projects. Compliance with HUD's regulations at 24 CFR 5.108 that implement Executive Order 13202 is a condition of receipt of assistance under this NOFA.

g. Lead-Based Paint Provisions. Each organization receiving a grant under this notice and its subgrantees must comply with the applicable lead-based paint provisions of 24 CFR part 35, including subparts J and K.

h. Accessible Technology. The Rehabilitation Act Amendments of 1998 (the Act) applies to electronic information technology (EIT) used by HUD for transmitting, receiving, using, or storing information to carry out the responsibilities of any federal funds awarded. The Act's coverage includes, but is not limited to, computers (hardware, software, word processing, email, and web pages), facsimile machines, copiers, and telephones. Consistent with the principles of the Act, HUD requires the same of its funding recipients. If you are a successful applicant, you will be required, when developing, procuring, maintaining, or using EIT, to ensure that the EIT allows employees with disabilities and members of the public with disabilities to have access to and use of information and data that are comparable to the access and use of information and data by employees and members of the public who do not have disabilities. If these standards impose a hardship on a funding recipient, the recipient may provide an alternative means to allow the individual to gain access to and use the information and data. However, no recipient will be required to provide information services to a person with disabilities at any location other than a location at which the information services are generally provided.

i. Procurement of Recovered Materials. State agencies and agencies of a political subdivision of a state that are using assistance under this NOFA for procurement and any person contracting with such an agency with respect to work performed under an assisted contract, must comply with the requirements of Section 6002 of the Solid Waste Disposal Act, as amended by the Resource Conservation and Recovery Act.

In accordance with Section 6002, these agencies and persons must procure items designated in guidelines of the Environmental Protection Agency (EPA) at 40 CFR part 247 that contain the highest percentage of recovered materials practicable, consistent with maintaining a satisfactory level of competition, where the purchase price of the item exceeds $10,000 or the value of the quantity acquired in the preceding fiscal year exceeded $10,000; must procure solid waste management services that maximize energy and resource recovery; and must have established an affirmative program for procurement of recovered materials identified in EPA's guidelines.

j. Participation in HUD-Sponsored Program Evaluation. As a condition of the receipt of financial assistance under this NOFA, all successful applicants will be required to cooperate with all HUD staff or contractors performing HUD-funded research and evaluation studies.

k. Salary Limitation for Consultants. FY2004 funds may not be used to pay or to provide reimbursement for payment of the salary of a consultant, whether retained by the federal government or the grantee, at more than the daily equivalent of the rate paid for level IV of the Executive Schedule, unless specifically authorized by law.

IV. Application and Submission Information

A. Address to Request Application Package. Electronic submission. Applications must be submitted through the Grants.gov Web site at http://www.grants.gov. If an applicant needs assistance with its electronic application, it should contact the Grants.gov Customer Support Center at 800-519-4726 or through e-mail at support@grants.gov. The customer support center is open from 7 a.m. to 9 p.m. Eastern time.

1. Electronic Signature. Applications submitted through Grants.gov will be considered an electronically signed application. Therefore, applicants need not submit a separate signed application.

2. Grants.gov Registration. There are six “Get Started” steps to complete at Grants.gov. The information that applicants need to understand and execute these steps is at http://www.grants.gov/GetStarted. Please be sure that the person you designate as the Authorized Organization Representative (AOR) is legally able to make a binding commitment for your organization.

3. Notice. This notice and related instructions for application may be downloaded from the Grants.gov Web site at http://www.grants.gov/FindGrantOpportunities. To find this opportunity on http://www.grants.gov, enter the funding opportunity number: FR-4925-N-01.

B. Content and Form of Application Submission. Applicants are required to submit an application containing the following:

1. Standard Forms and Certifications. Application for Federal Assistance (SF-424), Applicant Assurances and Certifications Form (SF-424B), Logic Model (HUD-96010), and Applicant/Recipient Disclosure/Update Report (HUD-2880).

2. Checklist for Application Submission. Assemble the application in the following order. Please enter page numbers on the narrative pages of the application.

_SF-424, Application for Federal Assistance

_An Application Cover Page indicating in bold (a) the type of grant you are requesting (NCDI Capacity Building, Non-NCDI Capacity Building, or Rural); and (b) the amount of funds requested in the application.

_HUD-96010, Logic Model

_HUD-424 CB, Grant Application Detailed Budget Form

_HUD-424 CBW, Detailed Budget Worksheet for Non-Construction Projects)

_SF-424 B, Assurances—Non-Construction Programs

_SF-LLL, Disclosure of Lobbying Activities

_HUD-2880, Applicant/Recipient Disclosure/Update Report

3. Detailed Budgets. Forms HUD-424-CB and HUD-424-CBW for the amount of funds being requested for Non-NCDI activities and a similar HUD-424-CB and HUD-424-CBW for any amounts to be committed to NCDI activities, with the budget summary identifying costs for implementing the plan of suggested technical assistance (TA) activities by cost category, as follows:

a. Direct labor by position or individual, indicating the estimated hours per position, the rate per hour, estimated cost per staff position, and the total estimated direct labor costs;

b. Fringe benefits by staff position, identifying the rate, the salary base on which the rate was computed, the estimated cost per position, and the total estimated fringe benefit cost;

c. Material costs, indicating the item, quantity, unit cost per item, estimated cost per item, and the total estimated material costs;

d. Transportation costs, if applicable;

e. Equipment charges, if any, identifying the type of equipment, quantity, unit costs, and total estimated equipment costs;

f. Consultant costs, if applicable, indicating the type, estimated number of consultant days, rate per day, total estimated consultant costs per consultant, and total estimated costs for all consultants;

g. Subcontract costs, if applicable, indicating each individual subcontract and amount;

h. Other direct costs, listed by item, quantity, unit cost, total for each item listed, and total other direct costs for the award; and

i. Indirect costs, identifying the type, approved indirect cost rate, base to which the rate applies, and total indirect costs.

4. Work and Funding Plan. Each grantee will submit to HUD a specific work and funding plan for each community showing when and how the federal funds will be used. The work plan must be sufficiently detailed for monitoring purposes and must identify the performance goals and objectives to be achieved. Within 30 days after submission of a specific work plan, HUD will approve it or notify the grantee of matters that need to be addressed prior to approval, or the work plan shall be considered approved. Work plans may be developed for less than the full dollar amount and term of the award, but no HUD-funded costs may be incurred for any activity until HUD approves the work plan. All activities also are subject to the environmental requirements in this notice.

Grantees will submit, as part of their work plan, indicators that measure the change in the condition of the neighborhoods (reduction in crime, increases in housing prices, decreases in vacancy rates, number of new businesses, etc.) in which the assisted CDC's operate relative to the larger geographic area.

The grantees assisted with these funds will make accomplishment and other relevant performance information available on the Internet for each CDC or other affiliate (e.g. Youthbuild grantee) assisted.

C. Submission Dates and Time. The application closing date will be no later than 100 days from the date of publication of this NOFA in the Federal Register. HUD may elect to close this solicitation when applications have been received from the four named eligible applicants.

D. Intergovernmental Review. Intergovernmental review is not applicable.

E. Funding Restrictions. Funding will be provided only to the four eligible applicants identified in this Notice.

F. Other Submission Requirements. All applicants for federal grants or cooperative agreements must provide a DUNS number (as explained in section III.C.2.a of this Notice) on their Form SF-424. Applicants applying through Grants.gov also need to register with the Federal Central Contractor Registry and with a credential provider. The Grants.gov website has online instructions for all registration requirements. Please allow up to two weeks to complete the registration process.

V. Application Review Information.

These grants will be awarded noncompetitively based on the submission of a complete application.

VI. Award Administration Information

A. Award Notices. After HUD has reviewed an application and found it complete, HUD will notify the applicant in writing.

B. Administrative and National Policy Requirements.

1. Uniform Administrative Requirements. The awards will be governed by 24 CFR part 84 (Uniform Administrative Requirements), OMB Circular A-122 (Cost Principles for Nonprofit Organizations), and OMB Circular A-133 (Audits of States, Local Governments, and Non-Profit Organizations).

2. Wage Rates. Unless triggered by other federal funds for a project under this grant, the requirements of the Davis-Bacon Act (40 U.S.C. 3141) do not apply.

3. Relocation. The Uniform Relocation Assistance and Real Property Acquisition Policies Act of 1979 (42 U.S.C. 4601-4655) and implementing regulations at 49 CFR part 24 apply to anyone who is displaced as a result of acquisition, rehabilitation, or demolition of a HUD-assisted activity.

C. Reporting. Performance reporting is required on at least an annual basis, but may be more frequently required as identified below. The performance reports must contain the information required under 24 CFR part 84, and must include reporting against form HUD-96010, Logic Model, which includes a comparison of actual accomplishments with the objectives and performance goals of the work plans. In the work plans and Logic Model, each grantee will identify performance goals and objectives established for each community in which it proposes to work and appropriate output and outcome measurements under the work plan. An example of such outputs and outcomes are: Output: the number of housing units and facilities each CDC/CHDO produces annually during the grant period and the average cost of those units; Outcome: The total number of families housed as a result of the work. However, when the activity is not to be undertaken in a single community, or is not available at the time of application, the applicant must submit a work plan and Logic Model indicating the areas in which the activity will be undertaken, along with appropriate goals and objectives as soon as the information is available. The performance reports must include a discussion of the reasonableness of the unit costs, the reasons for slippage if established objectives and goals are not met, the evaluation method and tools the grantee is using to evaluate its performance and to ensure that it is meeting established goals and objectives, and information related to where the information is maintained. The report may also contain other relevant information that can assist HUD in assessing program progress and compliance with program requirements.

1. Annual Performance Report. Each grantee shall submit to HUD an annual performance report due 90 days after the end of each calendar year, with the first report due on March 31, 2005. Performance reports shall include reports on both performance and financial progress under work plans and shall include reports on the commitment and expenditure of private matching resources utilized through the end of the reporting period. Reports shall conform to the reporting requirements of 24 CFR part 84.

2. Additional Reporting. Additional information or increased frequency of reporting, not to exceed twice a year, may be required by HUD any time during the grant agreement if HUD finds such reporting to be necessary for monitoring purposes.

3. Presenting Annual Reports. To further the consultation process and share results of progress, the Secretary may require grantees to present and discuss their performance reports at annual meetings in Washington, DC, during the life of the award.

4. Final Report. A final performance report, in the form described in section C above, shall be provided to HUD by each grantee within 90 days after the completion date of the award.

5. Financial Reports. Financial status reports shall be submitted semiannually on form SF-269A or such successor forms as may be adopted by the federal grantmaking agencies under Public Law 106-107, the Federal Financial Assistance Management Improvement Act of 1999.

6. Prohibition Against Lobbying Activities. Applicants for funding under this notice are subject to the provisions of Section 319 of Public Law 101-121 (approved October 23, 1989) (31 U.S.C. 1352) (the Byrd Amendment) and to the provisions of the Lobbying Disclosure Act of 1995 (2 U.S.C. 1601 et seq.).

The Byrd Amendment, which is implemented by regulations at 24 CFR part 87, prohibits applicants for federal contracts and grants from using appropriated funds to attempt to influence federal executive or legislative officers or employees in connection with obtaining such assistance, or with its extension, continuation, renewal, amendment, or modification. The Byrd Amendment applies to the funds that are the subject of this notice. Therefore, applicants must file with their application a certification stating that they have not made and will not make any prohibited payment and, if any payment or agreement to make a payment of non-appropriated funds for these purposes has been made, a Form SF-LLL disclosing such payments must be submitted.

The Lobbying Disclosure Act of 1995, which repealed Section 112 of the HUD Reform Act and resulted in the elimination of the regulations at 24 CFR part 86, requires all persons and entities that lobby covered executive or legislative branch officials to register with the Secretary of the Senate and the Clerk of the House of Representatives and file reports concerning their lobbying activities.

VII. Agency Contacts

FOR FURTHER INFORMATION CONTACT: Karen Williams, Office of Community Planning and Development, Department of Housing and Urban Development, 1835 Assembly Street, Columbia, SC 29201-2480; telephone number (803) 253-3009. Persons with hearing or speech impairments may access this number through TTY by calling the Federal Information Relay Service at 800-877-8339 or by calling (202) 708-2565. Except for the “800” number, these are not toll-free telephone numbers.

VIII. Other

1. Environmental Impact. A Finding of No Significant Impact with respect to the environment has been made in accordance with the Department's regulations at 24 CFR part 50, which implement section 102(2)(C) of the National Environmental Policy Act of 1969 (42 U.S.C. 4332). The Finding of No Significant Impact is available for public inspection between 8 a.m. and 5 p.m. weekdays in the Regulations Division, Office of the General Counsel, Room 10276, Department of Housing and Urban Development, 451 Seventh Street, SW., Washington, DC 20410-0500.

2. Federalism. Executive Order 13132 (entitled “Federalism”) prohibits an agency from promulgating policies that have federalism implications if the policies either impose substantial direct compliance costs on state and local governments and are not required by statute, or the policies preempt state law, unless the agency meets the consultation and funding requirements of section 6 of the Executive Order. This notice does not have federalism implications and does not impose substantial direct compliance costs on state and local governments nor preempt state law within the meaning of the Executive Order.

Dated: October 14, 2004.
Nelson R. Bregón,
General Deputy, Assistant Secretary for Community Planning and Development.

[FR Doc. E4-2723 Filed 10-19-04; 8:45 am]

BILLING CODE 4210-29-P